DEPARTMENT OF COMMERCE

Foreign-Trade Zones Board

[Order No. 1568]

Grant of Authority for Subzone Status, Baker Hughes, Inc., (Barite Milling), Morgan City, LA

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant qualified corporations the privilege of establishing foreign-trade zones in or adjacent to U.S. Customs and Border Protection ports of entry;

Whereas, the Board's regulations (15 CFR Part 400) provide for the establishment of special-purpose subzones when existing zone facilities cannot serve the specific use involved, and when the activity results in significant public benefit and is in the public interest;

Whereas, the Port of South Louisiana Commission, grantee of Foreign-Trade Zone 124, has made application to the Board for authority to establish a special-purpose subzone at the barite milling facility of Baker Hughes, Inc., located in Morgan City, Louisiana (FTZ Docket 2-2008, filed 1/28/08);

Whereas, notice inviting public comment was given in the Federal Register (73 FR 5175, 1/28/08); and,

Whereas, the Board adopts the findings and recommendations of the examiner's report, and finds the requirements of the FTZ Act and the Board's regulations are satisfied, and that approval of the application would be in the public interest;

Now, therefore, the Board hereby grants authority for subzone status for activity related to barite milling at the facility of Baker Hughes, Inc., located in Morgan City, Louisiana (Subzone 124M), as described in the application and Federal Register notice, and subject to the FTZ Act and the Board's regulations, including Section 400.28.

Signed at Washington, DC, this 24th day of July 2008.
David M. Spooner,
Assistant Secretary of Commerce for Import Administration, Alternate Chairman, Foreign-Trade Zones Board.
ATTEST:
Andrew McGilvray,
Executive Secretary.

[FR Doc. E8-18121 Filed 8-5-08; 8:45 am]

BILLING CODE 3510-DS-P